DEPARTMENT OF LABOR

Occupational Safety and Health Administration

[Docket No. OSHA-2022-0002]

National Advisory Committee on Occupational Safety and Health (NACOSH); Notice of Membership Appointments

AGENCY: Occupational Safety and Health Administration (OSHA), Labor.

ACTION: Notice of NACOSH membership appointments.

SUMMARY: On June 30, 2023, the Acting Secretary of Labor appointed six members to serve on the National Advisory Committee on Occupational Safety and Health (NACOSH).

FOR FURTHER INFORMATION CONTACT: For press inquiries: Mr. Francis Meilinger, Director, OSHA Office of Communications, U.S. Department of Labor; telephone (202) 693-1999, (TTY (877) 889-5627); email meilinger.francis2@dol.gov.

For general information: Ms. Lisa Long, Acting Deputy Director, Directorate of Standards and Guidance, OSHA, U.S. Department of Labor; telephone (202) 693-2049; email long.lisa@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with, and make recommendations to the Secretary of Labor and the Secretary of Health and Human Services (HHS) on matters relating to the administration of the OSH Act. NACOSH is a continuing advisory committee of indefinite duration.

NACOSH operates in accordance with the Federal Advisory Committee Act (FACA) (5 U.S.C. App. 2), its implementing regulations (41 CFR part 102-3), and OSHA's regulations on advisory committees and NACOSH (29 CFR parts 1912 and 1912a).

NACOSH is comprised of 12 members: four public representatives, two management representatives, two labor representatives, two occupational safety professional representatives, and two occupational health professional representatives (29 CFR 1912a.2). The Secretary of Labor appoints all of these members. However, the Secretary of HHS designates four of the representatives: two of the four public representatives and the two occupational health professional representatives. NACOSH members serve staggered two-year terms, unless the member becomes unable to serve, resigns, ceases to be qualified to serve, or is removed by the Secretary.

On January 3, 2023, OSHA published a request for nominations for two NACOSH HHS positions that would expire on June 16, 2023, and four NACOSH OSHA positions that would expire on July 31, 2023 (88 FR 119). Specifically, OSHA requested nominations for:

• Two (2) public representatives (one for OSHA, one for HHS);

• One (1) management representative (OSHA);

• One (1) labor representative (OSHA);

• One (1) occupational safety professional representative (OSHA); and

• One (1) occupational health professional representative (HHS).

OSHA handled the nominations consistent with the process identified in the FRN.

The Acting Secretary of Labor proceeded with the appointment of individuals to six positions on June 30, 2023.

II. Appointment of Committee Members

OSHA received nominations of highly qualified individuals in response to the agency's request for nominations (88 FR 119, January 3, 2023). The Secretary appointed NACOSH members based on their experience and competence in the field of occupational safety and health (29 CFR 1912a.2). The NACOSH members that the Acting Secretary appointed on August 1, 2023, with terms expiring on August 1, 2025 are:

Public Representative

• Jay Withrow, Virginia Department of Labor and Industry (OSHA).

• Michael Larranaga, REM Risk Consultants (HHS).

Management Representative

• Andrew Perkins, Alabama Power Company (OSHA).

Labor Representative

• Jessica Garcia, UFCW (OSHA).

Occupational Safety Representative

• Ray Ruiz, American Equity Underwriters (OSHA).

Occupational Health Representative

• Suzanne Teran, UC Berkeley (HHS).

Authority and Signature:

James S. Frederick, Deputy Assistant Secretary of Labor for Occupational Safety and Health, directed the preparation of this notice under the authority granted by 29 U.S.C. 655 (b)(1) and 656(b), 5 U.S.C. App. 2, and 29 CFR parts 1912 and 1912a.

Signed at Washington, DC, on July 18, 2023.
James S. Frederick,
Deputy Assistant Secretary of Labor for Occupational Safety and Health.

[FR Doc. 2023-15670 Filed 7-24-23; 8:45 am]

BILLING CODE 4510-26-P